AGENCY FOR INTERNATIONAL DEVELOPMENT

Bureau for Democracy, Conflict and Humanitarian Assistance; Office of Food for Peace; Announcement of Draft Food for Peace Pub. L. 480 Title II; Program Policies and Proposal Guidelines (FY09); Notice

Pursuant to the Food for Peace Act of 2008 (Pub. L. 480, as amended), notice is hereby given that the Draft Food for Peace Pub. L. 480 Title II Program Policies and Proposal Guidelines (FY 09) are being made available to interested parties for the required thirty (30) day comment period.

The draft guidelines may be found at http://www.usaid.gov/our_work/humanitarian_assistance/ffp/. Individuals who wish to receive a hard copy of these draft guidelines should contact: Office of Food for Peace, U.S. Agency for International Development, RRB 7.06-136, 1300 Pennsylvania Avenue, NW., Washington, DC 20523-7600. Individuals who have questions or comments on the draft guidelines should contact both Juli Majernik (at the above address, by phone at (202) 712-4088, or by e-mail at jmajernik@usaid.gov) and copy AMEX International, Inc., at ffpdocs@amexdc.com. The thirty day comment period will begin on the date that this announcement is published in the Federal Register.

Dale Skoric,
Office of Food for Peace, Bureau for Democracy, Conflict and Humanitarian Assistance.

[FR Doc. E8-22036 Filed 9-25-08; 8:45 am]

BILLING CODE 6116-01-M